DEPARTMENT OF DEFENSE

48 CFR Part 253

[DFARS Case 2003-D002]

Defense Federal Acquisition Regulation Supplement; Reporting Requirements Update

AGENCY: Department of Defense (DoD).

ACTION: Final rule.

SUMMARY: DoD is issuing a final rule amending the Defense Federal Acquisition Regulation Supplement (DFARS) to update contract action reporting requirements for Fiscal Year 2004. The rule makes changes to instructions for completion of the Individual Contracting Action Report.

EFFECTIVE DATE: October 1, 2003.

FOR FURTHER INFORMATION CONTACT: Mr. Euclides Barrera, Defense Acquisition Regulations Council, OUSD(AT&L)DPAP(DAR), IMD 3C132, 3062 Defense Pentagon, Washington, DC 20301-3062. Telephone (703) 602-0296; facsimile (703) 602-0350. Please cite DFARS Case 2003-D002.

SUPPLEMENTARY INFORMATION:

A. Background

This final rule contains instructions for contracting officers to use in completing DD Form 350, Individual Contracting Action Report, during Fiscal Year 2004. DoD uses this form to collect statistical data on its contracting actions. The rule includes changes related to reporting of contract modification actions and program or system information.

DD Form 350, and other forms prescribed by the DFARS, are not included in the Code of Federal Regulations. The forms are available electronically via the Internet at http://web1.whs.osd.mil/icdhome/ddeforms.htm.

This rule was not subject to Office of Management and Budget review under Executive Order 12866, dated September 30, 1993.

B. Regulatory Flexibility Act

This rule will not have a significant cost or administrative impact on contractors or offerors, or a significant effect beyond the internal operating procedures of DoD. Therefore, publication for public comment is not required. However, DoD will consider comments from small entities concerning the affected DFARS subpart in accordance with 5 U.S.C. 610. Such comments should cite DFARS Case 2003-D002.

C. Paperwork Reduction Act

The Paperwork Reduction Act does not apply because the rule does not impose any information collection requirements that require the approval of the Office of Management and Budget under 44 U.S.C. 3501, et seq.

List of Subjects in 48 CFR Part 253

Government procurement.

Michele P. Peterson,
Executive Editor, Defense Acquisition Regulations Council.

Therefore, 48 CFR part 253 is amended as follows:

1. The authority citation for 48 CFR part 253 continues to read as follows:

Authority: 41 U.S.C. 421 and 48 CFR chapter 1.

PART 253—FORMS

2. Section 253.204-70 is amended by revising paragraphs (b)(2) and (b)(12)(iii) to read as follows:

253.204-70 DD Form 350, Individual Contracting Action Report.

* * * * *

(b) * * *

(2) LINE B2, MODIFICATION, ORDER, OR OTHER ID NUMBER.

(i) LINE B2A, ORDER OR OTHER ID NUMBER. Enter the supplementary procurement instrument identification number if one was assigned in accordance with 204.7004 or as permitted by 204.7000. It can be up to 13 characters. Orders under DoD contracts have a four-position number (see 204.7004(d)); orders under non-DoD contracts have a 13-position number with an F in the ninth position.

(ii) LINE B2B, MODIFICATION NUMBER. Modifications to contracts and agreements have a six-position modification number (see 204.7004(c)); modifications to orders under DoD contracts have a two-position modification number (see 204.7004(e)); and modifications to orders under non-DoD contracts have a six-position modification number.

* * * * *

(12) * * *

(iii) LINE B12C, MDAP, MAIS, OR OTHER PROGRAM CODE.

(A) Enter the Major Defense Acquisition Program (MDAP) or Major Automated Information System (MAIS) code that applies to the contract. If more than one code applies, enter the one that best identifies the program or system representing the largest dollar value.

(B) If the action is funded by the Missile Defense Agency, enter code CAA.

(C) If the action supports environmental cleanup programs, enter one of the following codes:

(1) ZDE—Defense Environmental and Restoration Program.

(2) ZBC—Base Realignment and Closure Environmental Activities.

(3) ZSE—Environmental Protection Agency Superfund.

(4) ZOP—Other environmental programs.

(D) If A, B, or C does not apply to the action, enter three zeros.

(E) Defense Logistics Agency and Defense Contract Management Agency activities must use the code assigned by the sponsoring military department.

* * * * *

[FR Doc. 03-15655 Filed 6-19-03; 8:45 am]

BILLING CODE 5001-08-P